DEPARTMENT OF TRANSPORTATION

[Docket No.: DOT-OST-2021-0160]

Transportation Research and Development Strategic Plan; Request for Information

AGENCY: Office of the Assistant Secretary for Research and Technology (OST-R), U.S. Department of Transportation (DOT).

ACTION: Request for Information (RFI).

SUMMARY: The Office of the Assistant Secretary for Research and Technology (OST-R) invites the public to provide comments to inform the development of DOT's Research, Development, and Technology (RD&T) Strategic Plan for fiscal years (FY) 2022-2026. We welcome the views of the transportation research community on USDOT's research vision, strategic goals, and priorities, and how our research programs can advance the transportation system of the present and future. Please help us shape our research plans at this pivotal moment in the transformation of the nation's transportation system.

DATES: Comments are due by January 31, 2022. DOT will consider comments filed after this date to the extent practicable.

ADDRESSES: Written comments may be submitted by email or U.S. mail. Respondents are encouraged to submit comments electronically to ensure timely receipt. Please include your name, title, organization, postal address, telephone number, and email address.

• Electronic Submission: Go to http://www.regulations.gov. Search by using the docket number (provided above). Follow the instructions for sending comments.

• Email: rdtplan@dot.gov. Include the docket number in the subject line of the message. Please include the full body of your comments in the text of the electronic message and as an attachment.

• Mail: Docket Management Facility; U.S. Department of Transportation, 1200 New Jersey Avenue SE, Room PL-401, Washington, DC 20590-0001.

• Instructions: All submissions must include the agency name and docket numbers.

FOR FURTHER INFORMATION CONTACT: Jordan Katz, Community Planner, U.S. DOT Volpe Center, Telephone (617) 494-3783 or email rdtplan@dot.gov.

SUPPLEMENTARY INFORMATION: 49 U.S.C. Section 6503 requires that the Secretary of Transportation develop a 5-year transportation research and development strategic plan to guide future Federal transportation research and development activities. The statute states that the strategic plan shall describe how the plan furthers the primary purpose of the transportation research and development program.

49 U.S.C. Chapter 65 outlines the following primary purposes of transportation research:

• Promoting safety

• Improving mobility of people and goods

• Reducing congestion

• Improving the durability and extending the life of transportation infrastructure

• Preserving the existing transportation system

• Preserving the environment

• Reducing transportation cybersecurity risks

DOT is in the process of updating its strategic plan for FY 2022-2026 and released a Draft Strategic Framework in December 2021, which outlined the following six draft DOT Strategic Goals:

• Safety

• Economic strength and global competitiveness

• Equity

• Climate and sustainability

• Transformation

• Organizational excellence

The Draft Strategic Framework can be accessed at https://www.transportation.gov/dot-strategic-plan.

In order to align its research strategy and programs with the Department's goals, DOT is developing a new Research, Development, and Technology (RD&T) Strategic Plan for FY2022-2026.

OST-R invites the public to provide comments to inform the development of the 5-year strategic plan for transportation RD&T. Comments should regard appropriate RD&T activities to meet the purposes and considerations listed above and/or emerging RD&T challenges, opportunities, and priorities that DOT RD&T should address over the next five years. In particular, comments may respond to any or all of the following questions:

1. How should DOT prioritize and invest in research activities over the next five years? Over the next 30 years?

2. What types of research activities should DOT undertake to meet its strategic goals?

3. What key social, demographic, economic, technological, and/or other trends influence transportation today and into the future?

4. What emerging challenges or opportunities or knowledge gaps in transportation warrant additional Federal RD&T activities or investments?

5. How can DOT best lead and coordinate its RD&T activities with Federal, State, local, tribal, private sector, non-profit institutions, and international partners?

6. What activities should DOT adopt to facilitate deployment of DOT research results into the U.S. transportation system?

7. Is there anything else you want to share or say regarding DOT's research portfolio and activities?

Issued on December 23, 2021.
Jordan Wainer Katz,
Community Planner.

[FR Doc. 2021-28283 Filed 12-29-21; 8:45 am]

BILLING CODE 4910-9X-P